ANTITRUST MODERNIZATION COMMISSION

Notice of Public Hearings

AGENCY: Antitrust Modernization Commission.

ACTION: Notice of public hearings.

SUMMARY: The Antitrust Modernization Commission will hold public hearings on December 1 and 5, 2005. The topics of the hearings are Government Civil Remedies, Statutory Immunities and Exemptions, and Antitrust in Regulated Industries.

DATES: December 1, 2005, 10 to 12 p.m. and 1:15 to 4:30 p.m. December 5, 2005, 1 p.m. to 5 p.m. Interested members of the public may attend. Registration is not required.

ADDRESSES: For December 1: Federal Trade Commission, Conference Center, 601 New Jersey Avenue, NW., Washington, DC. For December 5: Rayburn House Office Building, Room 2237, Independence Ave. and South Capitol Street, SW., Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

SUPPLEMENTARY INFORMATION: The purpose of these hearings is for the Antitrust Modernization Commission to take testimony and receive evidence regarding Government Civil Remedies, Statutory Immunities and Exemptions, and Antitrust in Regulated Industries. The hearing on Government Civil Remedies will consist of one panel on December 1, 2005, and will begin at 10 a.m. and conclude at 12 p.m. The hearing on Statutory Immunities and Exemptions will consist of three panels on December 1, beginning at 1:15 p.m. and concluding at 4:30 p.m. The hearing on Antitrust in Regulated Industries will consist of two panels, and will be held on December 5, 2005, beginning at 1 p.m. and concluding at 5 p.m. Materials relating to the hearings, including lists of witnesses and the prepared statements of the witnesses, will be made available on the Commission's Web site (http://www.amc.gov) in advance of the hearings.

Interested members of the public may submit written testimony on the subject of the hearing in the form of comments, pursuant to the Commission's request for comments. See 70 FR 28902 (May 19, 2005). Members of the public will not be provided with an opportunity to make oral remarks at the hearings.

The AMC is holding this hearing pursuant to its authorizing statute. Antitrust Modernization Commission Act of 2002, Pub. L. No. 107-273, § 11057(a), 116 Stat. 1758, 1858.

Dated: November 9, 2005.
By direction of the Antitrust Modernization Commission.
Andrew J. Heimert,
Executive Director & General Counsel, Antitrust Modernization Commission.

[FR Doc. 05-22673 Filed 11-15-05; 8:45 am]

BILLING CODE 6820-YH-P